DEPARTMENT OF COMMERCE

National Oceanic and Atmospheric Administration

[I.D. 091701E]

Gulf of Mexico Fishery Management Council; Public Meeting

AGENCY: National Marine Fisheries Service (NMFS), National Oceanic and Atmospheric Administration (NOAA), Commerce.

ACTION: Notice of cancellation of a public meeting.

SUMMARY: The Gulf of Mexico Fishery Management Council (Council) has cancelled the public meeting of its Socioeconomic Panel that was scheduled for Wednesday, October 10 through Friday, October 12, 2001. The meetings were announced in the Federal Register on September 26, 2001.

FOR FURTHER INFORMATION CONTACT: Antonio B. Lamberte, Economist, Gulf of Mexico Fishery Management Council; telephone: 813-228-2815.

SUPPLEMENTARY INFORMATION: The initial notice published on September 26, 2001 (66 FR 49167).

Dated: September 26, 2001.
Richard W. Surdi,
Acting Director, Office of Sustainable Fisheries, National Marine Fisheries Service.

[FR Doc. 01-24520 Filed 9-28-01; 8:45 am]

BILLING CODE 3510-22-S